DEPARTMENT OF COMMERCE

International Trade Administration

[A-520-803]

Polyethylene Terephthalate Film, Sheet, and Strip From the United Arab Emirates: Final Results of Antidumping Duty Administrative Review; 2011-2012

AGENCY: Enforcement and Compliance, International Trade Administration, Department of Commerce.

ACTION: Notice.

SUMMARY: On December 24, 2013, the Department of Commerce (the Department) published the preliminary results of administrative review of the antidumping duty order on polyethylene terephthalate film (PET Film) from the United Arab Emirates.¹ This review covers two producer or exporters of subject merchandise: JBF RAK LLC (JBF) and FLEX Middle East FZE (FLEX). Based on our analysis of the comments received, we made changes to the Preliminary Results, which are discussed below. The final weighted-average dumping margins are listed below in the section titled “Final Results of Review.”

¹ See Polyethylene Terephthalate Film, Sheet, and Strip from the United Arab Emirates: Preliminary Results of Antidumping Duty Administrative Review; 2011-2012, 78 FR 77649 (December 24, 2013) (Preliminary Results).

DATES: April 30, 2014.

FOR FURTHER INFORMATION CONTACT: Andrew Huston, AD/CVD Operations, Office VII, Enforcement and Compliance, International Trade Administration, U.S. Department of Commerce, 14th Street and Constitution Avenue NW., Washington, DC 20230; telephone: (202) 482-4261.

SUPPLEMENTARY INFORMATION:

Background

Since the Preliminary Results, the following events have taken place: The Department received timely case briefs from Mitsubishi Polyester Film, Inc., and SKC, Inc., (collectively, Petitioners) and JBF on January 23, 2014. Petitioners filed a timely rebuttal brief with the Department on January 28, 2014.

Period of Review

The period of review is November 1, 2011, through October 31, 2012.

Scope of the Order

The products covered by the order are all gauges of raw, pre-treated, or primed polyethylene terephthalate film (PET Film), whether extruded or co-extruded. Excluded are metallized films and other finished films that have had at least one of their surfaces modified by the application of a performance-enhancing resinous or inorganic layer more than 0.00001 inches thick. Also excluded is roller transport cleaning film which has at least one of its surfaces modified by application of 0.5 micrometers of SBR latex. Tracing and drafting film is also excluded. PET Film is classifiable under subheading 3920.62.00.90 of the Harmonized Tariff Schedule of the United States (HTSUS). While HTSUS subheadings are provided for convenience and customs purposes, our written description of the scope of the order is dispositive.

Analysis of Comments Received

All issues raised by parties in the case and rebuttal briefs are addressed in the Memorandum to Paul Piquado, Assistant Secretary for Enforcement and Compliance, from Christian Marsh, Deputy Assistant Secretary for Antidumping and Countervailing Duty Operations, “Antidumping Duty Administrative Review of Polyethylene Terephthalate Film, Sheet, and Strip from the United Arab Emirates: Issues and Decision Memorandum for the Final Results” (Decision Memorandum), dated concurrently with, and hereby adopted by, this notice. A list of the issues addressed in the Decision Memorandum is appended to this notice. The Decision Memorandum is a public document and is available electronically via Enforcement and Compliance's Antidumping and Countervailing Duty Centralized Electronic Services System (IA ACCESS). IA ACCESS is available to registered users at http://iaacess.trade.gov, and it is available to all parties in the Central Records Unit of the main Commerce Building, room 7046. In addition, a complete version of the Decision Memorandum is also accessible on the internet at http://enforcement.trade.gov/frn/index.html. The signed Decision Memorandum and the electronic versions of the Decision Memorandum are identical in content.

Changes Since the Preliminary Results

Based on our analysis of the comments received, we made adjustments to our margin calculations for FLEX. Specifically, in response to allegations raised by Petitioners, we made changes to correct certain errors in FLEX's margin calculation.² There have been no changes to the margin calculation for JBF.

² See Memorandum to Mark Hoadley, “Final Analysis Memorandum for Flex Middle East FZE,” April 23, 2014.

Final Results of Review

As a result of this review, we determine that the following weighted-average dumping margins exist for the period of November 1, 2011, through October 31, 2012:

Producer or Exporter | Weighted average dumping margin (percent ad valorem)
JBF RAK LLC | 1.41
FLEX Middle East FZE | 15.92

Disclosure

We will disclose to interested parties the calculations performed in connection with these final results within five days of the publication of this notice, consistent with 19 CFR 351.224(b).

Assessment Rates

The Department shall determine, and U.S. Customs and Border Protection (CBP) shall assess, antidumping duties on all appropriate entries of subject merchandise in accordance with the final results of this review.³ The Department intends to issue appropriate assessment instructions directly to CBP 15 days after the date of publication of these final results of review.

³ The Department applied the assessment rate calculation method adopted in Antidumping Proceedings: Calculation of the Weighted-Average Dumping Margin and Assessment Rate in Certain Antidumping Proceedings: Final Modification, 77 FR 8101 (February 14, 2012).

For assessment purposes for JBF and FLEX, we calculated importer-specific, ad valorem assessment rates based on the ratio of the total amount of dumping calculated for the examined sales to the total entered value of those same sales.⁴ However, where the respondent did not report the entered value for its sales, we calculated importer-specific, per-unit assessment rates by aggregating the total amount of dumping calculated for the examined sales and dividing this amount by the total quantity of those sales. We will instruct CBP to assess antidumping duties on all appropriate entries covered by this review if the importer-specific assessment rate calculated in the final results of this review is not zero or de minimis (i.e., less than 0.50 percent). Pursuant to 19 CFR 351.106(c)(2), we will instruct CBP to liquidate, without regard to antidumping duties, all entries for which the assessment rate is zero or de minimis.

⁴ See 19 CFR 351.212(b)(1).

The Department clarified its “automatic assessment” regulation on May 6, 2003.⁵ This clarification applies to entries of subject merchandise during the period of review produced by companies under review in these final results for which the reviewed companies did not know their merchandise was destined for the United States. In such instances, we will instruct CBP to liquidate such entries at the all-others rate of 4.05 percent from the less-than-fair-value investigation if there is no rate for the intermediate company(ies) involved in the transaction.⁶

⁵ See Antidumping and Countervailing Duty Proceedings: Assessment of Antidumping Duties, 68 FR 23954 (May 6, 2003).

⁶ See id.; see also Polyethylene Terephthalate Film, Sheet, and Strip From Brazil, the People's Republic of China and the United Arab Emirates: Antidumping Duty Orders and Amended Final Determination of Sales at Less Than Fair Value for the United Arab Emirates, 73 FR 66595, 66596 (November 10, 2008).

Cash Deposit Requirements

The following deposit requirements will be effective upon publication of the final results of this administrative review for all shipments of subject merchandise entered, or withdrawn from warehouse, for consumption on or after the publication date of these final results, as provided by section 751(a)(2)(C) of the Tariff Act of 1930, as amended (the Act): (1) For the companies covered by this review, the cash deposit rate will be equal to the weighted-average dumping margin listed above in the section “Final Results of Review;” (2) for merchandise exported by producers or exporters not covered in this review but covered in a previously completed segment of this proceeding, the cash deposit rate will continue to be the company-specific rate published in the final results for the most recent period in which that producer or exporter participated; (3) if the exporter is not a firm covered in this review or in any previous segment of this proceeding, but the producer is, then the cash deposit rate will be that established for the producer of the merchandise in these final results of review or in the final results for the most recent period in which that producer participated; and (4) if neither the exporter nor the producer is a firm covered in this review or in any previously completed segment of this proceeding, then the cash deposit rate will be 4.05 percent, the all-others rate established in the less than fair value investigation.⁷ These cash deposit requirements, when imposed, shall remain in effect until further notice.

⁷ See id.

Notification Regarding Administrative Protective Orders

This notice is the only reminder to parties subject to the administrative protective order (APO) of their responsibility concerning the return or destruction of proprietary information disclosed under the APO in accordance with 19 CFR 351.305(a)(3), which continues to govern business proprietary information in this segment of the proceeding. Timely written notification of the return or destruction of APO materials, or conversion to judicial protective order, is hereby requested. Failure to comply with the regulations and the terms of an APO is a sanctionable violation.

Notification to Importers

This notice also serves as a final reminder to importers of their responsibility under 19 CFR 351.402(f)(2) to file a certificate regarding the reimbursement of antidumping duties prior to liquidation of the relevant entries during this review period. Failure to comply with this requirement could result in the Department's presumption that reimbursement of antidumping duties occurred which will result in the subsequent assessment of double antidumping duties.

Notification to Interested Parties

We are issuing and publishing these final results and this notice in accordance with sections 751(a)(1) and 777(i)(1) of the Act and 19 CFR 351.213(h).

Dated: April 23, 2014.
Paul Piquado,
Assistant Secretary for Enforcement and Compliance.

Appendix—Issues in the Decision Memorandum

Comment 1: Correction of Certain Errors in FLEX's SAS Program

Comment 2: Consideration of an Alternative Comparison Method in Administrative Reviews

Comment 3: Differential Pricing Analysis

Comment 4: Alleged Error in Department's SAS Programming

Comment 5: Grade A and Grade B Sales

Comment 6: 15-Day Liquidation Policy

[FR Doc. 2014-09891 Filed 4-29-14; 8:45 am]

BILLING CODE 3510-DS-P